DEPARTMENT OF COMMERCE

International Trade Administration

[A-560-823, A-570-958]

Certain Coated Paper Suitable for High-Quality Print Graphics Using Sheet-Fed Presses From Indonesia and the People's Republic of China: Final Results of Expedited First Sunset Reviews of the Antidumping Duty Orders

AGENCY: Enforcement and Compliance, International Trade Administration, Department of Commerce.

SUMMARY: As a result of these sunset reviews, the Department of Commerce (the Department) finds that revocation of the antidumping duty orders on certain coated paper suitable for high-quality print graphics using sheet-fed presses (coated paper) from Indonesia and the People's Republic of China (PRC) would be likely to lead to continuation or recurrence of dumping at the levels indicated in the “Final Results of Sunset Reviews” section of this notice.

DATES: Effective date: January 8, 2016.

FOR FURTHER INFORMATION CONTACT: Terre Keaton Stefanova or Brian Smith, AD/CVD Operations, Office II, Enforcement and Compliance, International Trade Administration, U.S. Department of Commerce, 14th Street & Constitution Avenue NW., Washington, DC 20230; telephone: (202) 482-1280 or (202) 482-1766, respectively.

SUPPLEMENTARY INFORMATION:

Background

On November 17, 2010, the Department published the antidumping duty orders on coated paper from Indonesia and the PRC.¹ On October 1, 2015, the Department published the notice of initiation of the first sunset reviews of the antidumping duty orders on coated paper from Indonesia and the PRC pursuant to section 751(c) of the Tariff Act of 1930, as amended (the Act).² On October 14, 2015, the Department received a Notice of Intent to Participate in these reviews from Verso Corporation (Verso), S.D. Warren Company d/b/a Sappi North America (Sappi), Appleton Coated LLC (Appleton) and the United Steel, Paper and Forestry, Rubber, Manufacturing, Energy, Allied Industrial and Service Workers International Union, AFL-CIO, CLC (USW) (collectively, “the petitioners”), within the deadline specified in 19 CFR 351.218(d)(1)(i). Verso, Sappi and Appleton claimed interested party status under section 771(9)(C) of the Act and 19 CFR 351.102(b)(29)(v), as domestic producers of a domestic like product in the United States. USW claimed interested party status under section 771(9)(D) of the Act and 19 CFR 351.102(b)(29)(vi), as a certified union or recognized union that represents workers engaged in the manufacturing of a domestic like product in the United States. On October 30, 2015, we received complete substantive responses from the petitioners within the 30-day deadline specified in 19 CFR 351.218(d)(3)(i).³ We received no substantive responses from any respondent interested parties. As a result, pursuant to section 751(c)(3)(B) of the Act and 19 CFR 351.218(e)(1)(ii)(C)(2), the Department conducted expedited (120-day) sunset reviews of these orders.

¹ See Certain Coated Paper Suitable for High-Quality Print Graphics Using Sheet-Fed Presses From Indonesia: Antidumping Duty Order, 75 FR 70205 (November 17, 2010); and Certain Coated Paper Suitable for High-Quality Print Graphics Using Sheet-Fed Presses From the People's Republic of China: Amended Final Determination of Sales at Less Than Fair Value and Antidumping Duty Order, 75 FR 70203 (November 17, 2010) (Orders).

² See Initiation of Five-Year (“Sunset”) Reviews, 80 FR 59133 (October 1, 2015).

³ See October 30, 2015, filings from the petitioners regarding “1st Sunset Review of Antidumping Order on Certain Coated Paper Suitable for High-Quality Print Graphics Using Sheet-Fed Presses from Indonesia: Substantive Response to Notice of Initiation” (Indonesia Substantive Response), and 1st Sunset Review of Antidumping Order on Certain Coated Paper Suitable for High-Quality Print Graphics Using Sheet-Fed Presses from the People's Republic of China: Substantive Response to Notice of Initiation (PRC Substantive Response).

Scope of the Orders

The merchandise subject to these orders is coated paper. The merchandise subject to these orders are provided for under subheadings: 4810.14.11, 4810.14.1900, 4810.14.2010, 4810.14.2090, 4810.14.5000, 4810.14.6000, 4810.14.70, 4810.19.1100, 4810.19.1900, 4810.19.2010, 4810.19.2090, 4810.22.1000, 4810.22.50, 4810.22.6000, 4810.22.70, 4810.29.1000, 4810.29.5000, 4810.29.6000, 4810.29.70, 4810.32, 4810.39 and 4810.92 of the Harmonized Tariff Schedule of the United States (HTSUS). Although the HTSUS subheadings are provided for convenience and customs purposes, our written description of the scope of these orders is dispositive.⁴

⁴ A full description of the scope of these orders is contained in the memorandum to Paul Piquado, Assistant Secretary for Enforcement and Compliance, from Christian Marsh, Deputy Assistant Secretary for Antidumping and Countervailing Duty Operations, “Issues and Decision Memorandum for the Final Results of the Expedited First Sunset Reviews of the Antidumping Duty Orders on Certain Coated Paper Suitable for High-Quality Print Graphics Using Sheet-Fed Presses from Indonesia and the People's Republic of China” (Issues and Decision Memorandum), dated concurrently with these results and hereby adopted by this notice.

Analysis of Comments Received

All issues raised in these reviews, including the likelihood of continuation or recurrence of dumping in the event of revocation and the magnitude of the margins likely to prevail if the orders were revoked, are addressed in the accompanying Issues and Decision Memorandum, which is hereby adopted by this notice. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly on the Internet at http://enforcement.trade.gov/frn/. The signed Issues and Decision Memorandum and the electronic version of the Issues and Decision Memorandum are identical in content.

Final Results of Sunset Reviews

Pursuant to sections 751(c)(1) and 752(c)(1) and (3) of the Act, we determine that revocation of the antidumping duty orders on coated paper from Indonesia and the PRC would be likely to lead to continuation or recurrence of dumping up to the following weighted-average margin percentages:

Country | Weighted- average margin (percent)
Indonesia | 20.13
PRC | 135.84

Notification to Interested Parties

This notice serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752(c), and 777(i)(1) of the Act, 19 CFR 351.218 and 19 CFR 351.221(c)(5)(ii).

Dated: January 4, 2016.
Paul Piquado,
Assistant Secretary for Enforcement and Compliance.

Appendix—List of Topics Discussed in the Issues and Decision Memorandum

I. Summary

II. Background

III. Scope of the Orders

IV. History of the Orders

V. Legal Framework

VI. Discussion of the Issues

A. Likelihood of Continuation or Recurrence of Dumping

B. Magnitude of the Margins Likely To Prevail

VII. Final Results of Sunset Reviews

VIII. Recommendation

[FR Doc. 2016-00179 Filed 1-7-16; 8:45 am]

BILLING CODE 3510-DS-P